DEPARTMENT OF DEFENSE

Department of the Army; Corps of Engineers

Availability of Norfolk Harbor Navigation Improvements Draft General Reevaluation Report/Environmental Assessment

AGENCY: Department of the Army, U.S. Army Corps of Engineers, DoD.

ACTION: Notice of availability.

SUMMARY: The U.S. Army Corps of Engineers (USACE) in association with the nonfederal sponsor, the Virginia Port Authority, an agent of the Commonwealth of Virginia, announces the availability of the Norfolk Harbor Navigation Improvements Draft General Reevaluation Report/Environmental Assessment (GRR/EA) for public review and comment. The purpose of this Draft GRR/EA is to identify whether the original authorized plan is still in the federal interest and to evaluate alternatives that have the potential to improve the current and future operational efficiency of commercial vessels currently using the Norfolk Harbor. Channel deepening and widening alternatives were evaluated as well as the No Action/Future Without Project Alternative. Pursuant to the National Environmental Policy Act (NEPA) of 1969, as amended, the USACE developed the draft GRR/EA to examine and assess the impacts of the project alternatives and determined that implementation of the Proposed Action would have not have significant impacts.

This study was authorized by Section 216 of the Flood Control Act of 1970 (Pub. L. 91-611), which authorizes the review of completed federal projects in the interest of navigation and related purposes to determine the feasibility of further port deepening.

DATES: The Draft GRR/EA is available for a 30-day review period. Written comments, pursuant to the NEPA, will be accepted until the close of public review at the close of business on December 10, 2017.

ADDRESSES: Written comments or questions from the public may be submitted to the U.S. Army Corps of Engineers, Norfolk District, ATTN: Ms. Kimberly Koelsch, Planning Branch, Environmental Analysis Section (CENAO-WR-PE), Norfolk, VA 23510 or via email to kimberly.c.koelsch@usace.army.mil.

FOR FURTHER INFORMATION CONTACT: Ms. Kimberly Koelsch, U.S. Army Corps of Engineers, Norfolk District, VA 23510, 757-201-7837 or via email at kimberly.c.koelsch@usace.army.mil.

SUPPLEMENTARY INFORMATION: The document is available at the following locations:

(1) USACE Norfolk Harbor and Channels Deepening Project Web site: http://www.nao.usace.army.mil/About/Projects/Norfolk-Harbor-Channel-Deepening/.

(2) Slover Public Library, 235 East Plume Street, Norfolk, VA 23510.

(3) Copies may also be requested in writing at (see ADDRESSES).

Proposed Action. The Study Area is located in Hampton Roads, a 25 square-mile natural harbor serving port facilities in the cities of Norfolk, Newport News, Portsmouth, Chesapeake, and Hampton in southeastern Virginia. The study area consists of a network of federally-improved channels extending from Atlantic Ocean Channel to Lamberts Bend (on the Elizabeth River). The project has not been constructed, nor is it maintained, to its authorized depth.

The Action Alternative consists of constructing and maintaining the following features:

• Deepening the Atlantic Ocean Channel to a required depth of approximately 59 feet.

• Deepening the Thimble Shoal Channel to a required depth of approximately 56 feet.

• Widening the Thimble Shoal Channel Meeting Areas (one on each side of the Chesapeake Bay Bridge Tunnel) to approximately 1,200 feet (an additional 200 feet from current conditions) and deepening where necessary to a required depth of 56 feet.

• Deepening Anchorage F to a required depth of approximately 55 feet.

• Deepening the Norfolk Harbor Channel to a required depth of approximately 55 feet.

• Deepening the Newport News Channel to a required depth of approximately 55 feet.

• Associated Operations and Maintenance Activities.

Implementation of the Preferred Alternative would have the potential to impact water quality, benthic resources, cultural resources, floodplains, federally listed threatened and endangered species, marine mammals, and other natural resources. The Proposed Action must be located in a floodplain in order to use the Craney Island Dredged Material Management Area (CIDMMA) as a dredged material placement site. The Proposed Action will adhere to the 8-step process as outlined under Executive Order 11988, Floodplain Management.

Alternatives. The Draft GRR/EA considers a reasonable range of widening and deepening alternatives in the project channels, meetings areas, and anchorages to meet the proposed action's purpose and need. It also incorporates measures to avoid and minimize impacts to threatened and endangered species, fish and wildlife species, estuarine and marine habitat, and other resources. In response to problems and opportunities, a range of alternatives was evaluated through an iterative screening and formulation process, resulting in identification of a Preferred Alternative.

Public Involvement. On September 22, 2015, a Notice of Intent to publish an EA was published, along with information on a NEPA public scoping meeting on September 25, 2015. A Federal Register Notice was also published to announce the initiation of the feasibility study and also the public NEPA scoping meeting. As part of the public involvement process, all affected federal, Commonwealth of Virginia, and local agencies, private organizations, and the public were invited to the Public Scoping Meeting on September 25, 2017 in Norfolk, VA.

Brenda S. Bowen,
Army Federal Register Liaison Officer.

[FR Doc. 2017-24395 Filed 11-8-17; 8:45 am]

BILLING CODE 3720-58-P